DEPARTMENT OF ENERGY

Federal Energy Regulatory Commission

[Docket No. CP02-17-000]

Texas Eastern Transmission Corporation; Notice of Application

November 7, 2001.

Take notice that on October 26, 2001, Texas Eastern Transmission Corporation (Texas Eastern), 5400 Westheimer Court, Houston, Texas 77056-5310, filed in Docket No. CP02-17-000 an application pursuant to Sections 7(b) and 7(c) of the Natural Gas Act for approval for it (i) to construct, own, operate, and maintain one 5,000 horsepower electric compressor unit at a new compressor station in Franklin Township, Somerset County, New Jersey, (ii) to uprate the maximum allowable operating pressure of certain main line pipelines in Hunterdon and Somerset Counties, New Jersey, (iii) to implement a new lateral line only transportation service (Rate Schedule MLS-1), (iv) to establish an incremental maximum recourse rate for service to New Jersey Natural Gas Company (New Jersey Natural) on its existing Freehold Lateral under the new Rate Schedule MLS-1, and (v) abandon certain authorizations in order to amend certain existing firm contractual agreements between itself and New Jersey Natural to reflect the addition of the proposed new service. Copies of this filing are on file with the Commission and are available for public inspection. This filing may also be viewed on the web at http://www.ferc.gov using the “RIMS” link, select “Docket#” and follow the instructions (call 202-208-2222 for assistance).

Texas Eastern's requests are all more fully set forth in the application which is on file with the Commission and open to public inspection. This filing may be viewed on the web at http://www.ferc.fed.us/online/rims.htm (call 202-208-2222 for assistance). Any questions regarding the application should be directed to Steven E. Tillman, Director, Regulatory Affairs, at (713) 627-5113, (713) 627-5947 (Fax), Texas Eastern Transmission Corporation, P.O. Box 1642, Houston, Texas 77251-1642.

Texas Eastern respectfully requests that the Commission issue a preliminary determination on the non-environmental aspects of this application by January 23, 2002, and a final certificate on or before June 1, 2002. Texas Eastern says this is needed to allow it to complete construction of the proposed facilities to meet the November 1, 2002 in-service date requested by New Jersey Natural.

Texas Eastern says New Jersey Natural has requested this service to meet two key business needs: firm hourly swing capability and increased delivery pressure. Texas Eastern says New Jersey Natural requires these additional services due to a continuing increase in service demand in its service area and significant daily load swings because New Jersey Natural has been experiencing the addition of about 12,500 service customers each year and projects that this growth will continue or increase in the future.

The proposed Rate Schedule MLS-1, included in Exhibit P of the application, will be available to any party requesting firm or interruptible transportation service on a portion of Texas Eastern's system designated as a Market Lateral. The proposed service will be provided as a “lateral line only” service with no transportation rights, secondary or otherwise, other than on the designated Market Lateral. The MLS-1 service will allow a firm contracting customer to designate in the MLS-1 Service Agreement the Maximum Daily Quantity (MDQ) and Maximum Hourly Quantity to be delivered, not to exceed the customer's MDQ for the Gas Day. A firm customer will be required to pay for any incremental facilities required to provide the customer's requested service. Firm customers under Rate Schedule MLS-1 will have secondary and capacity release rights only on the Market Lateral. The firm hourly rights will be applicable only as to flows between the Primary Receipt Point and Primary Delivery Point(s) on the Market Lateral.

The proposed MLS-1 service to New Jersey Natural for the Freehold Lateral is contingent on the construction of the proposed incremental facilities which will provide the additional capacity for the additional line pack necessary for New Jersey Natural's requested firm hourly swing service. New Jersey Natural will have non-firm hourly rights at other points on the Freehold Lateral. Additionally, Texas Eastern says that when New Jersey Natural is not using the full capacity, spare capacity will be available to existing Texas Eastern customers for utilization on a secondary or interruptible basis. This will provide operational flexibility for customers other than those taking service under Rate Schedule MLS-1.

Texas Eastern says that the proposal Project will not negatively affect in any way service to other Texas Eastern mainline or Freehold Lateral customers. The rates for New Jersey Natural's existing mainline firm service agreements will remain the same and is not affected by this proposal. The maximum recourse rate for New Jersey Natural's service pursuant to Rate Schedule MLS-1 on the Freehold Lateral is a 100 percent incremental reservation rate of $ 0.661 per Dth. This rate is based on proposed incremental facility costs and includes the cost of the additional initial line pack for the requested pack and draft service. Texas Eastern says it has used its current system depreciation and rate of return to derive this incremental rate.

Texas Eastern says that the proposed facilities and their proposed locations are critical to the proposed new service New Jersey Natural. Texas Eastern proposes to construct, install, and operate a new compressor station located in Franklin Township, Somerset County, New Jersey consisting of one 5,000 HP electric compressor unit and appurtenant piping, buildings, measurement and communication facilities at the head of the Freehold Lateral. The compressor unit will allow Texas Eastern to deliver gas to New Jersey Natural at a higher delivery pressure (720 psig). Also, the compressor and appurtenant facilities will be used as a means to transfer the mainline portion of the line pack into the Freehold Lateral for delivery to New Jersey Natural during the firm hourly swing cycle. Texas Eastern says that New Jersey Natural has evaluated the possibility of adding compression directly to its system, and has informed Texas Eastern that this is not a viable option in achieving the same desired benefits.

Texas Eastern also proposes to uprate the maximum allowable operating pressure (MAOP) to 1,170 psig on its Lambertville compressor discharge piping and its mainline piping east of Lambertville on 36-inch/Line Number 20 and 42 inch/Line Number 38 for about 14 miles. The current MAOP on this section of pipeline (975 psig) is limited by five road crossings in Hunterdon County and Somerset County, New Jersey which Texas Eastern proposes to replace and upgrade. Replacement of these road crossings with higher-grade pipeline will allow Texas Eastern to operate this portion of the mainline facilities at the higher MAOP. In addition, two pressure limiting devices (PLDs) will be installed immediately downstream of the uprated pipelines. The PLDs will be installed to control the gas pressure downstream of the uprated segments on both pipelines.

Texas Eastern says the construction and operation of the facilities is not expected to have any significant adverse impacts on the quality of human health or the environment and that the project was designed to minimize environmental impacts. Texas Eastern says that the proposed facilities will be designed, constructed, installed, inspected, tested, operated and maintained in accordance with all applicable safety standards and plans for maintenance and inspection as prescribed by the U.S. Department of Transportation.

There are two ways to become involved in the Commission's review of this project. First, any person wishing to obtain legal status by becoming a party to the proceedings for this project should, on or before November 30, 2001, file with the Federal Energy Regulatory Commission, 888 First Street, NE, Washington, D.C. 20426, a motion to intervene in accordance with the requirements of the Commission's Rules of Practice and Procedure (18 CFR 385.214 or 385.211) and the Regulations under the Natural Gas Act (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for appellate court review of Commission orders in the proceeding.

However, a person does not have to intervene in order to have their comments considered. The second way to participate is by filing with the Secretary of the Commission, as soon as possible, an original and two copies of comments in support of or in opposition to this project. The Commission will consider these comments in determining the appropriate action to be taken, but the filing of comments alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. The Commission considers the extent to which the applicant may need to exercise eminent domain to obtain rights-of-way for the proposed project and balances that against the non-environmental benefits to be provided by the project. Therefore, if a person has comments on community and landowner impacts from this proposal, it is important either to file comments or to intervene as early in the process as possible. If the Commission decides to set the application for a formal hearing before an Administrative Law Judge, the Commission will issue another notice describing that process. At the end of the Commission's review process, a final Commission order approving or denying a certificate will be issued.

Comments, protests and interventions may be filed electronically via the Internet in lieu of paper. See, 18 CFR 385.2001(a)(1)(iii) and the instructions on the Commission's website under the “e-Filing” link.

Linwood A. Watson, Jr.,
Acting Secretary.

[FR Doc. 01-28464 Filed 11-13-01; 8:45 am]

BILLING CODE 6717-01-P